DEPARTMENT OF THE INTERIOR

Fish and Wildlife Service

50 CFR Part 17

[Docket No. FWS-R1-ES-2013-0088; 4500030114]

RIN 1018-AZ56

Endangered and Threatened Wildlife and Plants; Designation of Critical Habitat for the Oregon Spotted Frog

AGENCY: Fish and Wildlife Service, Interior.

ACTION: Proposed rule; reopening of comment period.

SUMMARY: We, the U.S. Fish and Wildlife Service (Service), announce the reopening of the comment period on the June 18, 2014, document that made available the draft economic analysis for the proposed designation of critical habitat for the Oregon spotted frog (Rana pretiosa) under the Endangered Species Act of 1973, as amended (Act). We are reopening the comment period to allow all interested parties an additional opportunity to comment on the draft economic analysis for the August 29, 2013, proposed designation of critical habitat and on the June 18, 2014, changes to the proposed designation of critical habitat. Comments previously submitted need not be resubmitted, as they will be fully considered in preparation of the final rule.

DATES: The comment period for the draft economic analysis announced June 18, 2014 (79 FR 34685), is reopened. We will consider comments that we receive or that are postmarked on or before September 23, 2014. Comments submitted electronically using the Federal eRulemaking Portal (see ADDRESSES section, below) must be received by 11:59 p.m. Eastern Time on the closing date.

ADDRESSES: Document availability: You may obtain copies of the draft economic analysis; the associated perceptional effects memorandum; the August 29, 2013, proposed rule; and the June 18, 2014, changes to the proposed rule on the Internet at http://www.regulations.gov at Docket No. FWS-R1-ES-2013-0088 or by mail from the Washington Fish and Wildlife Office (see FOR FURTHER INFORMATION CONTACT).

Written comments: You may submit written comments by one of the following methods:

(1) Electronically: Go to the Federal eRulemaking Portal: http://www.regulations.gov. Submit comments on the draft economic analysis and the critical habitat proposal by searching for Docket No. FWS-R1-ES-2013-0088, which is the docket number for this rulemaking.

(2) By hard copy: Submit comments on the draft economic analysis and the critical habitat proposal, via U.S. mail or hand-delivery to: Public Comments Processing, Attn: Docket No. FWS-R1-ES-2013-0088; U.S. Fish & Wildlife Headquarters, MS: BPHC, 5275 Leesburg Pike, Falls Church, VA 22041-3803.

We request that you send comments only by the methods described above. We will post all comments on http://www.regulations.gov. This generally means that we will post any personal information you provide us (see the Public Comments section below for more information).

FOR FURTHER INFORMATION CONTACT: Thomas L. McDowell, Acting Manager, U.S. Fish and Wildlife Service, Washington Fish and Wildlife Office, 510 Desmond Drive SE., Suite 102, Lacey, WA 98503; telephone 360-753-9440; or facsimile 360-753-9445. Persons who use a telecommunications device for the deaf (TDD) may call the Federal Information Relay Service (FIRS) at 800-877-8339.

SUPPLEMENTARY INFORMATION:

Public Comments

On June 18, 2014, we published a document in the Federal Register (79 FR 34685) that made available our draft economic analysis and associated perceptional effects memorandum for our proposed rule (78 FR 53538, August 29, 2013) to designate critical habitat for the Oregon spotted frog. The June 18, 2014, document also proposed further changes to the proposed critical habitat designation for the Oregon spotted frog. With the publication of this document, we are reopening the public comment period for 14 days on that draft economic analysis and associated perceptional effects memorandum and on the changes to proposed critical habitat we announced on June 18, 2014, to allow all interested parties additional time to comment. We will consider all information and recommendations from all interested parties.

For additional details on specific information we are requesting, please see the Information Requested section in our proposed critical habitat designation (78 FR 53538) for the Oregon spotted frog that was published in the Federal Register on August 29, 2013, and the Public Comments section of the document (79 FR 34685) that was published in the Federal Register on June 18, 2014.

You may submit your comments and materials concerning the proposed rules by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R1-ES-2013-0088 for the proposed critical habitat designation, or by appointment, during normal business hours, at the U.S. Fish and Wildlife Service, Washington Fish and Wildlife Office (see FOR FURTHER INFORMATION CONTACT).

Authority

The authority for this action is the Endangered Species Act of 1973, as amended (16 U.S.C. 1531 et seq.).

Dated: August 25, 2014.
Michael J. Bean,
Principal Deputy Assistant Secretary for Fish and Wildlife and Parks.

[FR Doc. 2014-21230 Filed 9-8-14; 8:45 am]

BILLING CODE 4310-55-P